DEPARTMENT OF HEALTH AND HUMAN SERVICES

Administration for Children and Families

Announcement of the Award of a Single-Source Program Expansion Supplement Grant to the University of Massachusetts, Institute for Community Inclusion in Boston, MA, To Support the Think College Project

AGENCY: Administration on Developmental Disabilities, ACF, HHS.

ACTION: Notice announcing the award of a single-source program expansion supplement grant to the University of Massachusetts, Institute for Community Inclusion, Boston, MA, to support the National Training Initiative on Post Secondary Education's Think College project.

CFDA Number: 93.632.

Statutory Authority: This award will be made pursuant to Section 151 of the Developmental Disabilities Assistance and Bill of Rights Act of 2000 (42 U.S.C. 15061-15066).

SUMMARY: This notice announces that the Administration for Children and Families (ACF), Administration on Developmental Disabilities (ADD) has awarded a single-source program expansion supplement grant of $159,679 for post-secondary education opportunities.

The Institute for Community Inclusion at the University of Massachusetts in collaboration with seven ACF-ADD supported University Centers for Excellence in Developmental Disabilities Education, Research, and Service (UCEDDs) in Delaware, Minnesota, Hawaii, South Carolina, Tennessee [Vanderbilt], Ohio, and California along with the Association of University Centers on Disabilities (AUCD) has established a consortium that will conduct research, provide training and technical assistance, and disseminate information on promising practices that support individuals with developmental disabilities to increase their independence, productivity, and inclusion through access to post-secondary education. Think College's goals are to improve long-term independent living and employment outcomes for individuals with developmental disabilities. The consortium is acting as a national resource for knowledge, training, materials, and dissemination of information on participation in post-secondary education of individuals with developmental disabilities.

DATES: September 30, 2011—September 29, 2012.

FOR FURTHER INFORMATION CONTACT: Jennifer Johnson, Supervisory Program Specialist, Administration on Developmental Disabilities, 370 L'Enfant Promenade SW., Aerospace Building, 2nd Floor, Washington, DC 20447. Telephone: (202) 690-5982 Email: jennifer.johnson@acf.hhs.gov.

Dated: October 21, 2011.
Sharon Lewis,
Commissioner, Administration on Developmental Disabilities.

[FR Doc. 2011-28138 Filed 10-28-11; 8:45 am]

BILLING CODE ;P